DEPARTMENT OF THE INTERIOR

Fish and Wildlife Service

Notice of Availability of Draft Comprehensive Conservation Plan and Environmental Assessment for Ottawa, Cedar Point and West Sister Island National Wildlife Refuges, Oak Harbor, OH

AGENCY: Fish and Wildlife Service, Interior.

ACTION: Notice of availability.

SUMMARY: Pursuant to the Refuge Improvement Act of 1997, the U.S. Fish and Wildlife Service has published the Ottawa National Wildlife Refuge Complex Draft Comprehensive Conservation Plan and Environmental Assessment. The Plan describes how the Service intends to manage the Ottawa Refuge Complex for the next 10-15 years.

DATES: Submit written comments by July 28, 2000. All comments should be addressed to Gary Muehlenhardt (RE-AP), U.S. Fish and Wildlife Service, 1 Federal Drive, Fort Snelling, MN 55111. Comments may also be submitted through the Service's regional Web site at http://midwest.fws.gov/planning.

ADDRESSES: A copy of the Plan or a summary may be obtained by writing to Gary Muehlenhardt at the address above or placing a request through the Web site.

FOR FURTHER INFORMATION CONTACT: For additional information contact Larry Martin, Ottawa National Wildlife Refuge, 14000 W. State Route 2, Oak Harbor, OH 43449, phone (419) 898-0014 or E-mail: larry_d_martin@fws.gov.

SUPPLEMENTARY INFORMATION: Located east of Toledo, Ohio, the Ottawa National Wildlife Refuge Complex is a unique slice of marshland on the southwestern shore of Lake Erie. As a major migration corridor, the area is vital to migratory birds including waterfowl, shorebirds, raptors and songbirds that need rest and food either after crossing Lake Erie on their way south or before they head back north over the winter. As much as 70 percent of the Mississippi flyway's population of black ducks use Lake Erie marshes during migration.

The Draft Comprehensive Conservation Plan emphasizes the habitat needs of fish and wildlife as well as opportunities for wildlife-dependent recreation.

Dated: June 20, 2000.
Marvin E. Moriarty,
Acting Regional Director.

[FR Doc. 00-16174 Filed 6-26-00; 8:45 am]

BILLING CODE 4310-55-M